DEPARTMENT OF HEALTH AND HUMAN SERVICES

Food and Drug Administration

Cardiovascular and Renal Drugs Advisory Committee; Cancellation

AGENCY: Food and Drug Administration, HHS.

ACTION: Notice.

SUMMARY: The Food and Drug Administration (FDA) is canceling the meeting of the Cardiovascular and Renal Drugs Advisory Committee scheduled for April 5, 2005. This meeting was announced in the Federal Register of March 9, 2005 (70 FR 11678).

FOR FURTHER INFORMATION CONTACT: Cathy A. Groupe, Center for Drug Evaluation and Research (HFD-21), Food and Drug Administration, 5600 Fishers Lane, rm. 1093), Rockville, MD 20857, 301-827-7001, e-mail: Groupc@cder.fda.gov, or FDA Advisory Committee Information Line, 1-800-741-8138 (301-443-0572 in the Washington, DC area) code 3014512533.

Dated: March 24, 2005.
Sheila Dearybury Walcoff,
Associate Commissioner for External Relations.

[FR Doc. 05-6331 Filed 3-25-05; 3:50 pm]

BILLING CODE 4160-01-S